DEPARTMENT OF COMMERCE

International Trade Administration

[A-570-051]

Certain Hardwood Plywood Products From the People's Republic of China: Final Results of Antidumping Duty Administrative Review; 2017-2018

AGENCY: Enforcement and Compliance International Trade Administration, Department of Commerce.

SUMMARY: The Department of Commerce (Commerce) determines that certain producers and exporters of certain hardwood plywood products (hardwood plywood) from the People's Republic of China (China) made sales of the subject merchandise at prices below normal value (NV) during the period of review (POR), June 23, 2017 through December 31, 2018.

DATES: Applicable December 1, 2020.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

Commerce is conducting an administrative review of the antidumping duty order on hardwood plywood from China in accordance with section 751(a) of the Tariff Act of 1930, as amended (the Act).¹ On February 7, 2020, Commerce published in the Federal Register the Preliminary Results of this administrative review.² On June 29, 2020, we received case briefs from Linyi Chengen Import and Export Co., Ltd. (Chengen), the sole mandatory respondent in this review,³ and Canusa Wood Products Ltd. a/k/a Canusa Wood Products Limited, Richmond International Forest Products LLC, Taraca Pacific Inc., and Concannon Corp. (collectively, the Importers Coalition).⁴ On June 30, 2020, we received a case brief on behalf of the Coalition for Fair Trade in Hardwood Plywood (the petitioner).⁵ On July 6, 2020, we received a rebuttal brief on behalf of Cosco Star International Co., Ltd.; Shandong Jinhua International Trading Co., Ltd.; Qingdao Top P&Q International Corp.; Jiangsu High Hope Arser Co., Ltd.; Pingyi Jinniu Wood Co., Ltd.; Linyi Dahua Wood Co., Ltd.; Happy Wood Industrial Group Co., Ltd.; Xuzhou Amish Import & Export Co., Ltd.; and Zhejiang Dehua TB Import & Export Co., Ltd. (Separate Rate Respondents).⁶ On July 10, 2020, we received rebuttal briefs from the Importers Coalition, Chengen, and the petitioner.⁷

¹ See Certain Hardwood Plywood Products from the People's Republic of China: Amended Final Determination of Sales at Less Than Fair Value, and Antidumping Duty Order, 83 FR 504 (January 4, 2018) (Order).

² See Certain Hardwood Plywood Products from the People's Republic of China: Preliminary Results of Antidumping Duty Administrative Review and Rescission of Review, In Part 2017-2018, 85 FR 7270 (February 7, 2020) (Preliminary Results).

³ See Chengen's Letter, “Hardwood Plywood Products from the People's Republic of China: Case Brief,” dated June 29, 2020.

⁴ See Importers Coalition's Letter, “Administrative Review of the Antidumping Duty Order on Plywood Products from the People's Republic of China: Letter in Lieu of Case Brief,” dated June 29, 2020.

⁵ See Petitioner's Letter, “Hardwood Plywood Products from the People Republic of China: Petitioner's Case Brief,” dated June 29, 2020. On November 13, 2020, at the request of Commerce and with the consent of Chengen, the petitioner submitted a revised case brief to publicly state information that had previously been treated as business proprietary information. See Petitioner's Letter, “Petitioner's Resubmission of Case Brief,” dated November 23, 2020; see also Memorandum, “Request for Revised Bracketing of Case Brief,” dated November 12, 2020.

⁶ See Separate Rate Respondents' Letter, “Hardwood Plywood Products from the People's Republic of China: Rebuttal Brief,” dated July 6, 2020.

⁷ See Importers Coalition's Letter, “Administrative Review of the Antidumping Duty Order on Plywood Products from the People's Republic of China: Rebuttal Brief,” dated July 10, 2020; see also Chengen's Letter, “Hardwood Plywood Products from the People's Republic of China: Rebuttal Briefs,” dated July 10, 2020, and Petitioner's Letter, “Hardwood Plywood Products from People Republic of China: Petitioner's Rebuttal Case Brief,” dated July 10, 2020.

A complete summary of the events that occurred since publication of the Preliminary Results may be found in the Issues and Decision Memorandum.⁸

⁸ See Memorandum, “Issues and Decision Memorandum for the Final Results of the Antidumping Duty Administrative Review of Certain Hardwood Plywood Products from the People's Republic of China; 2017-2018,” dated concurrently with, and hereby adopted by, this notice (Issues and Decision Memorandum).

Scope of the Order

The product covered by the Order is hardwood plywood from China. A full description of the scope of the Order is contained in the Issues and Decision Memorandum.

Analysis of Comments Received

All issues raised in the case and rebuttal briefs filed by parties in this review are listed in the appendix to this notice and are addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed Issues and Decision Memorandum and the electronic version of the Issues and Decision Memorandum are identical in content.

Changes Since the Preliminary Results

Based on our analysis of the comments received, and for the reasons explained in the Issues and Decision Memorandum, Commerce made certain changes to the Preliminary Results. Specifically, we revised the calculation of the surrogate financial ratios, the surrogate value for formaldehyde, and the surrogate value for labor.

Separate Rates

In the Preliminary Results, we found that information placed on the record by Chengen, as well as by the other companies listed in the rate table in the “Final Results of Review” section below, demonstrates that these companies are entitled to separate rate status. We received no arguments since the Preliminary Results that provide a basis for reconsidering the determination with respect to the separate rate status of these entities. Therefore, for the final results, we continue to find Chengen and the other companies listed below, eligible for a separate rate. In this administrative review, Chengen is the only reviewed respondent that received a calculated weighted-average margin. Therefore, for the final results, Commerce has assigned Chengen's weighted-average margin to the non-selected separate-rate companies.⁹

⁹ For further discussion regarding the rate assigned to the non-selected companies, see Comment 4 of the Issues and Decision Memorandum.

In addition, Commerce continues to find that certain companies did not demonstrate their eligibility for separate rate status because they did not timely file a separate rate application or certification and, consequently, did not rebut the presumption of de jure or de facto government control of their operations. See Appendix II of this notice for a complete list of companies not receiving a separate rate.

Final Results of Review

Commerce determines that the following weighted-average dumping margins exist for the POR from June 23, 2017 through December 31, 2018:

Exporters | Dumping margin (percent)
Linyi Chengen Import and Export Co., Ltd | 14.95
Review-Specific Rate Applicable to the Following Companies:
Anhui Hoda Wood Co., Ltd | 14.95
Cosco Star International Co., Ltd | 14.95
Happy Wood Industrial Group Co., Ltd | 14.95
Jiangsu High Hope Arser Co., Ltd | 14.95
Jiaxing Hengtong Wood Co., Ltd | 14.95
Linyi Evergreen Wood Co., Ltd | 14.95
Linyi Glary Plywood Co., Ltd | 14.95
Linyi Huasheng Yongbin Wood Co., Ltd | 14.95
Linyi Jiahe Wood Industry Co., Ltd | 14.95
Linyi Sanfortune Wood Co., Ltd | 14.95
Qingdao Top P&Q International Corp | 14.95
Shanghai Brightwood Trading Co., Ltd | 14.95
Shanghai Futuwood Trading Co., Ltd | 14.95
Shanghai Luli Trading Co., Ltd | 14.95
Suqian Hopeway International Trade Co., Ltd | 14.95
Suzhou Oriental Dragon Import and Export Co., Ltd | 14.95
Xuzhou Jiangheng Wood Products Co., Ltd | 14.95
Xuzhou Jiangyang Wood Industries Co., Ltd | 14.95
Xuzhou Timber International Trade Co., Ltd | 14.95
Zhejiang Dehua TB Import & Export Co., Ltd | 14.95

Assessment Rates

Commerce shall determine, and U.S. Customs and Border Protection (CBP) shall assess, antidumping duties on all appropriate entries of subject merchandise in accordance with section 751(a)(2)(C) of the Act and 19 CFR 351.212(b). In accordance with 19 CFR 351.212(b)(1), we have calculated importer-specific (or customer-specific) assessment rates for merchandise subject to this review.¹⁰ For these final results, we divided the total dumping margins (calculated as the difference between NV and export price) for Chengen's importers or customers by the total sales quantity associated with those transactions. Where an importer-specific ad valorem or per-unit assessment rate is not zero or de minimis, Commerce will instruct CBP to collect the appropriate duties at the time of liquidation. Where either the respondent's weighted-average dumping margin is zero or de minimis, or an importer-specific ad valorem or per-unit assessment rate is zero or de minimis, Commerce will instruct CBP to liquidate appropriate entries without regard to AD duties.¹¹ We intend to instruct CBP to take into account the “provisional measures deposit cap,” in accordance with 19 CFR 351.212(d).

¹⁰ See Antidumping Proceedings: Calculation of the Weighted Average Dumping Margin and Assessment Rate in Certain Antidumping Proceedings: Final Modification, 77 FR 8101 (February 14, 2012) (Final Modification).

¹¹ Id., 77 FR at 8103.

Pursuant to Commerce's practice, for entries that were not reported in the U.S. sales data submitted by Chengen during this review, Commerce will instruct CBP to liquidate such entries at the rate for the China-wide entity.¹²

¹² See Non-Market Economy Antidumping Proceedings: Assessment of Antidumping Duties, 76 FR 65694 (October 24, 2011), for a full discussion of this practice.

For the respondents that were not selected for individual examination in this administrative review and that qualified for a separate rate, the assessment rate will be equal to the weighted-average dumping margin determined for Chengen in these final results of review, identified above. We will also instruct CBP to take into account the “provisional measures deposit cap” in accordance with 19 CFR 351.212(d).

For the seven exporters found not to qualify for separate rates that are being treated as part of the China-wide entity, we will instruct CBP to apply an ad valorem assessment rate of 183.36 percent, the current rate established for the China-wide entity, to all entries of subject merchandise during the POR which were exported by those companies.

Commerce intends to issue assessment instructions to CBP 15 days after the date of publication of the final results of this review in the Federal Register.

Cash Deposit Requirements

The following cash deposit requirements will be effective for all shipments of subject merchandise entered, or withdrawn from warehouse, for consumption on or after the publication date of the final results of this administrative review, as provided by section 751(a)(2)(C) of the Act: (1) The cash deposit rate for Chengen and other exporters that have been found eligible for a separate rate in this review will be equal to the dumping margin established for Chengen in these final results of review; (2) for previously investigated or reviewed Chinese and non-Chinese exporters not listed above that have received a separate rate in a prior segment of this proceeding, the cash deposit rate will continue to be the existing exporter-specific cash deposit rate published for the completed segment of the most recent period; (3) for all Chinese exporters of subject merchandise that have not been found to be entitled to a separate rate, the cash deposit rate will continue to be 183.36 percent, the China-wide rate determined in the less-than-fair-value investigation; (4) for all non-Chinese exporters of subject merchandise that have not received their own separate rate, the cash deposit rate will be the rate applicable to the Chinese exporter that supplied that non-Chinese exporter. These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the term of an APO is a violation subject sanction.

Notification to Interested Parties

We are issuing and publishing these final results in accordance with sections 751(a)(1) and 777(i) of the Act, and 19 CFR 351.221(b)(5).

Dated: November 23, 2020.
Jeffrey I. Kessler,
Assistant Secretary for Enforcement and Compliance.

Appendix I—List of Topics Discussed in the Preliminary Decision Memorandum

I. Summary

II. Background

III. Scope of the Order

IV. Changes Since the Preliminary Results

V. Discussion of the Issues

Comment 1: Whether Commerce Should Postpone the Final Results Until It Is Able To Conduct Verification

Comment 2: Whether Commerce Should Apply the Intermediate Input Methodology

Comment 3: Surrogate Financial Ratios

Comment 4: Separate Rate

Comment 5: Surrogate Values (SVs)

A. SV for Logs

B. SV for Formaldehyde

C. SV for Labor

VI. Recommendation

Appendix II—List of Companies Not Receiving Separate Rate Status

1. Jiangsu Sunwell Cabinetry Co., Ltd.

2. Linyi Bomei Furniture Co., Ltd.

3. Linyi Dahua Wood Co., Ltd.

4. Pingyi Jinniu Wood Co., Ltd.

5. SAICG International Trading Co., Ltd.

6. Shandong Jinhua International Trading Co., Ltd.

7. Xuzhou Amish Import & Export Co., Ltd.

[FR Doc. 2020-26495 Filed 11-30-20; 8:45 am]

BILLING CODE 3510-DS-P